DEPARTMENT OF THE INTERIOR

Bureau of Land Management

[WY-060-1610-DP]

Notice of Availability of the Casper Draft Resource Management Plan and Associated Environmental Impact Statement, Wyoming

AGENCY: Bureau of Land Management, Interior.

ACTION: Notice of Availability (NOA) of the Draft Casper Resource Management Plan\Environmental Impact Statement (Draft RMP\EIS).

SUMMARY: In accordance with Section 202 of the National Environmental Policy Act of 1969 (NEPA), and the Federal Land Policy and Management Act of 1976 (FLPMA) the Bureau of Land Management (BLM), in cooperation with the Environmental Protection Agency (EPA), National Park Service (NPS), State of Wyoming, county governments, and conservation districts located in the planning area, has prepared a draft revision to the Casper RMP and associated environmental impact statement. By this notice, the BLM announces the availability of the Draft Casper RMP/EIS for public review and the opening of the period during which the public may submit their comments to the BLM. Consistent with Federal regulations, the BLM announces that a public hearing regarding coal leasing will be scheduled during the public review period and prior to the approval of the final RMP.

DATES: The Draft Casper RMP/EIS will be available for review for 90 calendar days from the date the EPA publishes the NOA in the Federal Register. The BLM can best utilize your comments and resource information submissions if received within the review period.

All meetings or hearings and any other public involvement opportunities to submit comments on the Draft RMP\EIS will be announced at least 15 days in advance through public notices, media news releases, Casper RMP Web site announcements, or mailings.

ADDRESSES: A copy of the Draft RMP\EIS has been sent to affected Federal, State, and local Government agencies and to interested parties. The document will be available electronically on the following Web site: http://www.blm.gov/rmp/casper. Copies of the Draft RMP/EIS will be available for public inspection at the following locations:

• Bureau of Land Management, Wyoming State Office, 5353 Yellowstone Road, Cheyenne, Wyoming 82003.

• Bureau of Land Management, Casper Field Office, 2987 Prospector Drive, Casper, Wyoming 82604.

FOR FURTHER INFORMATION CONTACT: Ms. Linda Slone, Project Manager, BLM Casper Field Office, 2987 Prospector Drive, Casper, WY 82604. Requests for information may be sent electronically to CRMP_wymail@blm.gov with “Attention: Casper RMP Information Request” in the subject line. Ms. Slone may also be reached at (307) 261-7520.

SUPPLEMENTARY INFORMATION: The Draft RMP/EIS describes and analyzes alternatives for the planning and management of public lands and resources administered by the BLM Casper Field Office. The administrative area is located in east-central Wyoming and includes approximately 8.5 million acres of land in most of Natrona County, and all of Converse, Goshen, and Platte Counties. Public land in the southwestern corner of Natrona County is administered by the BLM's Lander Field Office. Within the Casper administrative area, the BLM administers approximately 1.4 million acres of BLM-administered public land surface and 4.7 million acres of Federal mineral estate.

Cooperating agencies under NEPA in the preparation of the Draft RMP/EIS included the Environmental Protection Agency; National Park Service, Fort Laramie National Historic Site; State of Wyoming; Converse, Natrona, and Platte Counties; and Converse, Natrona, Lingle-Fort Laramie, North Platte Valley, and South Goshen Conservation Districts. The Draft RMP/EIS documents the direct, indirect, and cumulative environmental impacts of five alternatives for management of BLM-administered public lands within the Casper Field Office. When completed, the revised RMP will fulfill the obligations set forth by the NEPA, the FLPMA, and associated Federal regulations. Because the Draft RMP/EIS addresses coal leasing and to meet requirements found at 43 Code of Federal Regulations (CFR) 1610.2, a hearing will be combined with a public meeting to be scheduled and announced during the comment period allotted in this notice. In 1985 the BLM approved the Platte River RMP that established management direction for the surface and mineral estates and associated resources administered by the BLM Casper Field Office, Wyoming. In September 2000 an evaluation of the Platte River RMP, predecessor to the Casper RMP, was completed. The evaluation concluded that the RMP needed revising to address changing conditions and demands on the area's resources.

Under the provisions found at 43 CFR1610.2 the BLM published a Notice of Intent (NOI) in the Federal Register, November 20, 2003, announcing that it would prepare a revised plan and associated EIS that would be used to review and analyze current conditions, consider new data, new or revised policies and circumstances affecting the entire or major portions of the geographic area addressed in the Platte River RMP. To reflect changes in administrative units, the BLM also established that the revised plan would henceforth be known as the Casper RMP. The Draft RMP/EIS describes the physical, mineral, biological, heritage and visual, land, and socioeconomic resources in and around the planning area. The focus for impact analysis is based on resource issues and concerns identified during scoping and public involvement activities and opportunities. Potential impacts of concern regarding possible management direction and planning decisions (not in priority order) are:

(1) Energy and mineral resource exploration and development;

(2) Land ownership adjustments and access/transportation on BLM lands;

(3) Fire management, including wildland-urban interface;

(4) Wildlife habitat and management of crucial habitat and migration corridors;

(5) Management and the cumulative effects of land uses and human activities on threatened, endangered, candidate, and sensitive species and their habitat;

(6) Livestock grazing and management of vegetation, including impacts of invasive, nonnative species;

(7) Air and water quality; and

(8) Management of cultural, including National Historic Trails and paleontological resources, recreation and off-highway vehicle management, and visual resource management.

Four alternatives and a Preferred Alternative were developed and are analyzed in detail:

1. Alternative A. Continuation of Existing Management Direction or the “No Action” Alternative continues to balance the use and development of resources.

2. Alternative B. Emphasizes conservation of physical, biological, and heritage resources with constraints on resource uses.

3. Alternative C. Provides physical, biological, and heritage resource conservation similar to current management while allowing for more recreation experiences.

4. Alternative D. Emphasizes resource uses (e.g., energy and mineral development, recreation, and forest products).

5. Alternative E. Preferred Alternative conserves physical, biological, and heritage resources while emphasizing moderate constraints.

There are currently two areas of critical environmental concern (ACECs), Jackson Canyon and Salt Creek Hazardous ACECs, totaling approximately 249,350 acres of mixed Federal surface and private land ownership as established in the Platte River RMP (1985). There are five potential ACECs proposed in the draft Casper RMP. These are:

• Alcova Fossil Area—(7,073 acres; mostly federal surface) Values of concern include rare fossil tracks and additional fossils from two geological periods;

• Black-tailed Prairie Dog Complex—(22,937 acres; mostly non-federal surface) Values of concern include protection of habitat and other species dependent on prairie dog colonies;

• Cedar Ridge—(21,742 acres; over 60 percent Federal surface) Values of concern include historic cultural resources, including traditional ceremonial sites in use by the Shoshone, Arapaho and other tribes;

• North Platte River—(85,392 acres; mostly non-Federal surface) Values of concern include fisheries and wildlife habitats and high recreational and scenic values; and

• South Bighorns/Red Wall—(369,325 acres; over 55 percent Federal surface) Values of concern include crucial wildlife habitat, cultural resources, intact vegetation communities and outstanding scenery.

Alternative E proposes to maintain ACEC status for Jackson Canyon; remove ACEC status for Salt Creek Hazardous Area; and add the following to be managed as ACECs in the future: Alcova Fossil Area. The following areas would be established as special management areas (SMAs): Bates Hole, Salt Creek, Sand Hills, South Bighorns/Red Wall, and Wind River Basin.

Agency Preferred Alternative: BLM's preferred alternative is Alternative E.

The Casper Draft RMP/EIS considers, and is in conformance with, BLM's National Fire Plan and Healthy Forest Initiative. The National Energy Policy is also considered. The potential for energy development in the planning area is high, both north and west of Casper, Wyoming. Based on the high potential within the area administered by the Casper Field Office, the Draft RMP/EIS considers oil and gas, coal, and wind energy development in support of the National Energy Plan.

Since the publication of the NOI in the Federal Register, open houses, surveys, and mailings have been conducted to solicit comments and input. The Casper Field Office has been coordinating with various county governments, conservation districts, and the State of Wyoming throughout the development of the Draft RMP/EIS. Tribal governments with interests in the Casper area were also contacted. Starting November 20, 2003, the date that BLM's NOI was published in the Federal Register, the BLM has solicited for and received in excess of 500 comments from interested parties. In addition, a series of public meetings were held to provide the public with an opportunity to acquire information about the RMP revision process, as well as provide the public with an opportunity to submit comments. Public meetings were held in: Wheatland, Wyoming, November 10, 2003; Torrington, Wyoming, November 11, 2003; Douglas, Wyoming, November 12, 2003; and Casper, Wyoming, November 13, 2003. All comments presented throughout the process have been considered. Background information and maps used in developing the Draft RMP/EIS are available for public viewing at the Casper Field Office.

How To Submit Comments

The BLM encourages you to review the Casper Draft RMP/EIS, attend public meetings or hearings, and submit your comments. Written comments may be submitted as follows:

1. The Casper RMP Revision Web site at http://www.blm.gov/rmp/casper/ is designed to allow commenters to submit comments electronically by resource subject directly onto a comment form posted on the Web site;

2. Comments may be uploaded in an electronic file directly to the above Web site;

3. Written comments may be mailed directly, or delivered to, the BLM at: Casper RMP/EIS, Bureau of Land Management Casper Field Office, 2987 Prospector Drive, Casper, WY 82604-2968.

4. Comments may be sent by facsimile to (307) 261-7587; or

5. Written comments may be submitted during the public meetings and hearings that will be held at a later date.

BLM will only accept comments on the Casper RMP and DEIS if they are submitted in the methods described above. To be given consideration by BLM all DEIS comment submittals must include the commenter's name and street address. Whenever possible, please include reference to either the page or section in the document to which the comment applies. To facilitate analysis of comments and information submitted, we strongly encourage the public to submit comments in an electronic format through either the Web site or electronic mail.

Our practice is to make comments, including the names and street addresses of each respondent, available for public review at the BLM office listed above during business hours (7:45 a.m. to 4:30 p.m.), Monday through Friday, except for Federal holidays. Your comments may be published as part of the EIS process. Individual respondents may request confidentiality. If you wish to withhold your name or street address or both from public review or from disclosure under the Freedom of Information Act, you must state this prominently at the beginning of your written comments. Such requests will be honored to the extent allowed by law. Anonymous comments will not be considered. All submissions from organizations or businesses will be made available for public inspection in their entirety.

Dated: April 21, 2006.
Donald A. Simpson,
Acting Associate State Director.

[FR Doc. E6-11583 Filed 7-20-06; 8:45 am]

BILLING CODE 4310-22-P